DEPARTMENT OF COMMERCE

National Oceanic and Atmospheric Administration

[I.D. 040700F]

South Atlantic Fishery Management Council; Public Scoping Meetings

AGENCY: National Marine Fisheries Service (NMFS), National Oceanic and Atmospheric Administration (NOAA), Commerce.

ACTION: Notice of public meetings.

SUMMARY: The South Atlantic Fishery Management Council (Council) will hold nine public scoping meetings regarding the concept of using marine reserves as a fishery management tool.

DATES: The meetings will be held in April, May, and June. See SUPPLEMENTARY INFORMATION for specific dates and times of the public hearings.

ADDRESSES: Copies of the Public Information Document (PID) for Marine Reserves are available by contacting Kerry O'Malley, South Atlantic Fishery Management Council, One Southpark Circle, Suite 306, Charleston, SC 29407-4699; telephone: 843-571-4366; email: kerry.omalley@noaa.gov. The PID will also be available at the meeting. See SUPPLEMENTARY INFORMATION for specific locations.

FOR FURTHER INFORMATION CONTACT: Kim Iverson, Public Information Officer; telephone: 843-571-4366; fax: 843-769-4520; email: kim.iverson@noaa.gov.

SUPPLEMENTARY INFORMATION:

Purpose of Meetings

The Council will hold scoping meetings to gather public comments regarding the concept of using marine reserves (nearshore or offshore, natural or man-made) as a fishery management tool, emphasizing the conservation of essential fish habitat and the species associated with the snapper-grouper complex. The Council has not yet decided whether to proceed with the development of marine reserves.

Time and Location for Public Meetings

Public scoping meetings will be held at the following dates, times, and locations.

1. April 26, 2000, 6:30 p.m., Marine Resources Center, SC Dept. of Natural Resources, 217 Ft. Johnson Road, Charleston, SC 29422; telephone: 843-762-5010.

2. May 9, 2000, 6 p.m., Sea Turtle Inn, One Ocean Boulevard, Atlantic Beach, FL 32233; telephone: 904-249-7402.

3. May 10, 2000, 6 p.m., Holiday Inn, 1300 N. Atlantic Avenue, Cocoa Beach, FL 32931; telephone: 407-783-2271.

4. May 11, 2000, 6 p.m., Ireland's Inn, 2220 N. Atlantic Blvd. Ft. Lauderdale, FL 33305; telephone: 954-565-6661.

5. May 16, 2000, 6 p.m., Classroom 205, McGee Building, Carteret Community College, 3505 Arendell Street, Morehead City, NC 28557; telephone: 252-247-3097.

6. May 17, 2000, 6 p.m., NCDMR Field Office, 127 Cardinal Drive Extension, Wilmington, NC 28405-3845; telephone: 910-395-3990.

7. May 25, 2000, 6 p.m., Murrell's Inlet Community Center, 4450 Murrell's Inlet Road, Murrell's Inlet, SC 29576; telephone: 843-651-7373.

8. May 31, 2000, 6 p.m., University of Georgia Marine Extension Service, 715 Bay Street, Brunswick, GA 31520; telephone: 912-264-7268.

9. June 1, 2000, 6 p.m., Hyatt Regency, 2 West Bay Street, Savannah, GA 31401; telephone: 912-238-1234.

Special Accommodations

These meetings are physically accessible to people with disabilities. Requests for sign language interpretation or other auxiliary aids should be directed to the Council office (see ADDRESSES) by April 20, 2000.

Dated: April 11, 2000.
Bruce Morehaed,
Acting Director, Office of Sustainable Fisheries, National Marine Fisheries Service.

[FR Doc. 00-9563 Filed 4-14-00; 8:45 am]

BILLING CODE 3510-22-F